DEPARTMENT OF COMMERCE

National Oceanic and Atmospheric Administration

[RTID 0648-XC799]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 147th Scientific and Statistical Committee (SSC) and its 194th Council meeting to take actions on fishery management issues in the Western Pacific Region. The Council will also hold meetings of the following advisory groups and standing committees: Joint Meeting of the American Samoa Advisory Panel (AP), Hawaii AP, and Fishing Industry Advisory Committee (FIAC); Guam Regional Ecosystem Advisory Committee (REAC); Commonwealth of the Northern Mariana Islands (CNMI) REAC; Mariana Archipelago AP; and Executive and Budget Standing Committee (SC) meeting.

DATES: The meetings will be held between March 14 and March 31, 2023. For specific times and agendas, see SUPPLEMENTARY INFORMATION.

ADDRESSES: The 147th SSC meeting will be held in a hybrid format with in-person and remote participation (Webex) options available for the SSC members, and public attendance limited to web conference via Webex. In-person attendance for the SSC members will be hosted at the Council office, 1164 Bishop Street, Suite 1400, Honolulu, HI 96813.

The Joint Meeting of the American Samoa AP, Hawaii AP and FIAC will be held by web conference via Webex.

The Guam REAC, CNMI REAC, Mariana Archipelago AP, and the 194th Council Meeting will be held as a hybrid meeting for Council members and public, with remote participation option available via Webex. The Executive and Budget SC will be held as an in-person meeting for Council members and public. The in-person portion of the Guam REAC meeting will be held at the Governor's Main Conference Room, 513 West Marine Corps Drive, Ricardo J. Bordallo Complex, Hagatna, GU 96910. The in-person portion of the CNMI REAC, Mariana Archipelago AP, and Executive and Budget SC will be held at the Crowne Plaza, Coral Tree Ave., Saipan, MP 96950. The first two days of the 194th Council meeting and the CNMI Fishers Forum will be held at the Crowne Plaza, Saipan, MP, and the last two days of the Council meeting will be held at the Hilton Guam Resort and Spa, 202 Hilton Road, Tumon Bay, GU 96913. The Guam Fishers Forum will be held at the Guam Museum, 193 Chalan Santo Papa Juan Pablo Dos, Hagatna, GU 96910.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The 147th SSC meeting will be held between 9 a.m. and 5 p.m. Hawaii Standard Time (HST) on March 14, 2023, 10:30 a.m. and 5 p.m. on March 15, 2023, and 9 a.m. and 5 p.m. on March 16, 2023. The Joint Meeting of the American Samoa AP, Hawaii AP and FIAC will be held between 5 p.m. and 7 p.m. HST on March 16, 2023. The Guam REAC meeting will be held between 8:30 a.m. and 4 p.m. Chamorro Standard Time (ChST) on March 23, 2023. The CNMI REAC meeting will be held between 10 a.m. and 4 p.m. ChST on March 24, 2023. The Mariana Archipelago AP meeting will be held between 10 a.m. and 4 p.m. ChST on March 25, 2023. The Executive and Budget SC meeting will be held between 10:00 a.m. and 12 p.m. ChST on March 26, 2023. The portion of the Executive and Budget SC from 11:30 a.m. to 12 p.m. will be closed to the public for employment matters in accordance with section 302(i)(3) of the Magnuson-Stevens Fishery Conservation and Management Act (MSA). The first two days of the 194th Council Meeting will be held between 9 a.m. and 5 p.m. ChST on March 27-28, 2023. The CNMI Fishers Forum will be held between 6 p.m. and 9 p.m. ChST on March 27, 2023. The first Public Comment on Non-Agenda Items will be held between 4 p.m. and 4:30 p.m. ChST on March 28, 2023. The last two days of the 194th Council Meeting will be held between 9 a.m. and 5 p.m. ChST on March 30-31, 2023. The second Public Comment on Non-Agenda Items will be held between 4:30 p.m. and 5 p.m. ChST on March 30, 2023. The Guam Fishers Forum will be held between 6 p.m. and 9 p.m. ChST on March 30, 2023.

Please note that the evolving public health situation regarding COVID-19 may affect the conduct of the March Council and its associated meetings. At the time this notice was submitted for publication, the Council anticipated convening the Standing Committee meeting as an in-person meeting only, and the Council meeting as an in-person meeting with a web conference attendance option. If public participation options will be modified, the Council will post notice on its website at www.wpcouncil.org by, to the extent practicable, 5 calendar days before each meeting.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 194th Council meeting will be available at www.wpcouncil.org. Written public comments on final action items at the 194th Council meeting should be received at the Council office by 5 p.m. HST, Thursday, March 23, 2023, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 147th SSC Meeting

Tuesday, March 14, 2023, 9 a.m. to 5 p.m. HST

1. Introductions

2. Approval of Draft Agenda and Assignment of Rapporteurs

3. Status of the 146th SSC Meeting Recommendations

4. Pacific Islands Fisheries Science Center Director Report

5. Island Fisheries

A. Western Pacific Bottomfish Fisheries

1. American Samoa Bottomfish Management Unit Species (BMUS) Stock Assessment and Western Pacific Stock Assessment Review Update

2. Guam Bottomfish Data Workshops

B. Establishing Status Determination Criteria for Kona Crab Fisheries (Action Item)

C. Gold Coral Management (Action Item)

D. Northwestern Hawaiian Islands (NWHI) Fishing Cost Recovery Analysis (Action Item)

E. Public Comment

F. SSC Discussion and Recommendations

6. Protected Species

A. Ecosystem-based Fishery Management (EBFM) Turtle Model Workshop Report

B. Hawaii Deep-set and American Samoa Longline Fishery Draft Biological Opinions (BiOps)

1. Updated Assessment of Population-level Impacts of Leatherback Turtle Interactions in the Hawaii Deep-set Longline Fishery

2. Review of the Draft BiOps

C. A Potential New Assessment Approach for Hawaii Pelagic False Killer Whales

D. Review of Potential Measures for the False Killer Whale Take Reduction Plan Modifications

E. Draft Recovery Plan for Oceanic Whitetip Sharks

F. Public Comment

G. SSC Discussion and Recommendations

Wednesday, March 15, 2023, 10:30 a.m. to 5 p.m. HST

7. Pelagic and International Fisheries

A. 2022 Longline Fishery Reports

1. Hawaii Longline Fishery Report

2. American Samoa Longline Fishery Report

B. International Billfish Biological Sampling Research Update

C. Multi-Year Territorial Bigeye Tuna Catch and Allocation Specifications (Action Item)

D. Bayesian Meta-synthesis of Shark Bycatch Mortality to Support Evidence-informed Hazard Mitigation Policy

E. Area-based Management Issues

1. Limited Conservation Efficacy of Large-Scale Marine Protected Areas for Pacific Skipjack and Bigeye Tunas

2. Council Coordination Committee Area-Based Management Subcommittee Manuscript

3. Updated Analyses of Papahānaumokuākea Marine National Monument Expansion Spillover

F. Updating the Council's Pelagic Fisheries Research Plan

G. Western & Central Pacific Fisheries Commission (WCPFC) Tropical Tuna Scientific Requests

H. Public Comment

I. SSC Discussion and Recommendations

Thursday, March 16, 2023, 9 a.m. to 5 p.m. HST

8. Other Business

A. June 2023 SSC Meetings Dates

9. Summary of SSC Recommendations to the Council

Agenda for the Joint Meeting of the American Samoa AP, Hawaii AP and FIAC

Thursday, March 16, 2023, 5 p.m. to 7 p.m. HST

1. Welcome and Introductions

2. Review of Draft American Samoa Longline and Hawaii Longline Fishery BiOps

A. Draft BiOp Overview

B. Advisory Group Review of the Draft BiOps

3. Review of Potential Measures for the False Killer Whale Take Reduction Plan Modifications

4. Public Comment

5. Discussion and Recommendations

6. Other Business

Agenda for the Guam REAC Meeting

Thursday, March 23, 2023, 8:30 a.m. to 4 p.m. ChST

1. Welcome and Introductions

2. About the Guam REAC

3. Current Fishery Ecosystem Issues

a. Introduction and Overview of Endangered Species Act (ESA) Critical Habitat

b. Status of Guam Fisheries Stocks

c. Overview of Data Collection System and Efforts

4. Territorial Issues

a. Marine Conservation Plan 2023-2026

b. Developing Fishery Management Plans

5. Federal Issues

a. Military Issues

i. The Use of Open Burn on Guam

ii. Explosive Ordinance/Blasting Pit Permit at Tarague Basin and Sea Turtle Nesting Mitigation

iii. Planned Military Exercises at Whiskey 517 and Working with the Fishing Community for Safe Passage

b. Review of the Sikes Act Agreement

c. Status of Guam National Wildlife Refuge and US Marine Corps Firing Range

6. Updates on the NOAA Fisheries Equity and Environmental Justice (EEJ) Strategy

7. Public Comments

8. Discussion and Recommendations

9. Other Business

Agenda for the CNMI REAC Meeting

Friday, March 24, 2023, 10 a.m. to 4 p.m. ChST

1. Welcome and Introductions

2. About the CNMI REAC

3. Current Fishery Ecosystem Issues

a. Introduction and Overview of ESA Critical Habitat

b. EEJ CNMI Report

c. Pelagic Fisheries

i. Status of overfished stocks in Western Pacific

ii. Explanation of WCPFC tuna quota discussion

d. Status of CNMI Fisheries Stocks

e. Overview of Data Collection System and Efforts

f. CNMI Fishery Management Plan Development

4. Marianas Conservation Issues

a. Proposed Mariana National Marine Sanctuary

i. Status of Mariana Trench Sanctuary Nomination

ii. Discussion on Sanctuary Status and Future

b. Area-based Management Update

i. Executive Order 14008 (Biden 30x30)

ii. Micronesia Challenge

5. Public Comment

6. Discussion and Recommendations

7. Other Business

Agenda for the Mariana Archipelago AP Meeting

Saturday, March 25, 2023, 10 a.m. to 4 p.m. ChST

1. Welcome and Introductions

2. Setting the Direction for the Marianas AP

3. Marianas Projects and Activities 2023 (AP Plans)

A. CNMI

B. Guam

4. Feedback from the Fleet

A. First Quarter Fishermen Observations in the Marianas

B. Marianas Archipelago Fishery Issues and Priorities

5. Council Issues

A. Options for a Multi-Year Bigeye Tuna Catch and Allocation Limits

B. Guam and CNMI Marine Conservation Plan Review

6. Marianas Fishery Issues and Activities

A. Bottomfish Fisheries

i. BMUS Revision Update

ii. Guam Data Workshop Outcomes and Next Steps

iii. Discussion on Bottomfish

B. Pelagic Fisheries

i. Exploratory Longline Fishing in the CNMI

ii. Council Pelagic Fisheries Research Priorities

iii. Discussion on Pelagic Fisheries

7. Updates on the NOAA Fisheries EEJ Strategy

8. Other Business

9. Public Comment

10. Discussion and Recommendations

Agenda for the Executive and Budget Standing Committee

Sunday, March 26, 2023, 10 a.m. to 12 p.m. ChST (11:30 a.m. to 12 p.m. Closed)

1. Financial Reports

2. Administrative Reports

3. Council Program Plan Report

4. Council Family Changes

5. Meetings and Workshops

6. Other Issues

7. Public Comment

8. Discussion and Recommendations

9. Closed session on Employment Matters—pursuant to MSA section 302(i)(3)

Agenda for the 194th Council Meeting

Monday, March 27, 2023, 9 a.m. to 5 p.m. ChST

1. Welcome and Introductions

2. Opening Protocol

3. Opening Remarks

4. Approval of the 194th CM Agenda

5. Approval of the 193rd CM Meeting Minutes

6. Executive Director's Report

7. Agency Reports

A. National Marine Fisheries Service

1. Pacific Islands Regional Office

2. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

8. Mariana Archipelago—CNMI

A. Department of Land and Natural Resources/Division of Fish and Wildlife Report

B. Arongol Falú

C. Review of CNMI Marine Conservation Plan (Action Item)

D. Options for Exploratory Longline Fishing in CNMI

E. Advisory Group Report and Recommendations

1. Advisory Panel

2. Fishing Industry Advisory Committee

3. Regional Ecosystem Advisory Committee

4. Scientific & Statistical Committee

F. Public Comment

G. Council Discussion and Action

9. Protected Species

A. EBFM Turtle Model Workshop Report

B. Review of the Hawaii Deep-set and American Samoa Longline Fishery Draft BiOps

1. Draft BiOp Overview

2. Advisory Group Review of Draft BiOps

Monday, March 27, 2023, 6 p.m. to 9 p.m. ChST

Fishers Forum: All About Bottomfish in the Mariana Islands

Tuesday, March 28, 2023, 9 a.m. to 5 p.m. ChST

9. Protected Species (continued)

C. ESA and Marine Mammal Protection Act Updates

1. Overview of ESA critical habitat designations

2. Coral and green turtle critical habitat rulemaking update

3. Draft Recovery Plan for oceanic whitetip shark

D. Review of Potential Measures for the False Killer Whale Take Reduction Plan Modifications

E. Advisory Group Report and Recommendations

1. Advisory Panel

2. Fishing Industry Advisory Committee

3. Regional Ecosystem Advisory Committee

4. Scientific & Statistical Committee

F. Public Comment

G. Council Discussion and Action

10. Hawai'i Archipelago & Pacific Remote Island Areas (PRIA)

A. Moku Pepa

B. DLNR/DAR Report (Legislation, Enforcement)

C. NWHI Fishing Regulations—Native Hawaiian Subsistence Permit and Cost Recovery (Final Action)

D. Main Hawaiian Islands Kona Crab Status Determination Criteria (Initial Action)

E. Gold Coral Management (Final Action)

F. Review of PRIA Marine Conservation Plan (Action Item)

G. Advisory Group Report and Recommendations

1. Archipelagic Plan Team

2. Advisory Panel

3. Fishing Industry Advisory Committee

4. Scientific & Statistical Committee

H. Public Comment

I. Council Discussion and Action

Tuesday, March 28, 2023, 4 p.m. to 4:30 p.m. ChST

Public Comment on Non-Agenda Items

Thursday, March 30, 2023, 9 a.m. to 5 p.m. ChST

11. Welcome and Introductions

A. Opening Protocol

B. Opening Remarks

12. Mariana Archipelago—Guam

A. Isla Informe

B. DoA/DAWR

C. Review of Guam Marine Conservation Plan (Action Item)

D. Report of the Guam Bottomfish Data Workshop

E. Advisory Group Report and Recommendations

1. Advisory Panel

2. Fishing Industry Advisory Committee

3. Regional Ecosystem Advisory Committee

4. Scientific & Statistical Committee

F. Public Comment

G. Council Discussion and Action

13. Pelagic & International Fisheries

A. 2022 Longline Reports 2022

1. Hawaii Longline Fishery

2. American Samoa Longline Fishery

B. Multi-Year Territorial Bigeye Tuna Catch & Allocation Specifications (Initial Action)

C. International Fisheries Issues

1. Western and Central Pacific Ocean Longline Management Workshop

D. Advisory Group Report and Recommendations

1. Advisory Panel

2. Fishing Industry Advisory Committee

3. Regional Ecosystem Advisory Committees

4. Scientific & Statistical Committee

E. Public Comment

F. Council Discussion and Action

14. Program Planning and Research

A. National Legislative Report

B. Territorial BMUS Revision Status Update

C. Updates on the NOAA Fisheries EEJ Strategy

D. Regional Communications & Outreach Report

E. Council Program Planning Report

F. Regional Coordination Meeting Reports

1. Council-Pacific Islands Regional Office

2. Council-Pacific Islands Fisheries Science Center

3. Council-State of Hawaii

G. Advisory Group Report and Recommendations

1. Advisory Panel

2. Fishing Industry Advisory Committee

3. Regional Ecosystem Advisory Committees

4. Archipelagic Plan Team

5. Scientific & Statistical Committee

H. Public Comment

I. Council Discussion and Action

Thursday, March 30, 2023, 4:30 p.m. to 5 p.m. ChST

Public Comment on Non-Agenda Items

Thursday, March 30, 2023, 6 p.m. to 9 p.m. ChST

Fishers Forum: All About Bottomfish in the Mariana Islands

Friday, March 31, 2023, 9 a.m. to 5 p.m. ChST

15. American Samoa Archipelago

A. Motu Lipoti

B. Department of Marine and Wildlife Resources Report

C. Update on American Samoa Bottomfish Stock Assessment and Review

D. Advisory Group Report and Recommendation

1. Advisory Panel

2. Fishing Industry Advisory Committee

3. Scientific & Statistical Committee

E. Public Comment

F. Council Discussion and Action

16. Administrative Matters

A. Financial Reports

B. Administrative Reports

C. Council Family Changes

D. Meetings and Workshops

E. Executive and Budget Standing Committee Report

F. Public Comment

G. Council Discussion and Action

17. Other Business

Non-emergency issues not contained in this agenda may come before the Council for discussion and formal Council action during its 194th meeting. However, Council action on regulatory issues will be restricted to those issues specifically listed in this document and any regulatory issue arising after publication of this document that requires emergency action under section 305(c) of the MSA, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 23, 2023.
Rey Israel Marquez,
Acting Deputy Director, Office of Sustainable Fisheries, National Marine Fisheries Service.

[FR Doc. 2023-04090 Filed 2-27-23; 8:45 am]

BILLING CODE 3510-22-P